DEPARTMENT OF AGRICULTURE

Farm Service Agency

[Docket ID FSA-2024-0002]

Notice of Funds Availability (NOFA) for the Food Safety Certification for Specialty Crops Program

AGENCY: Commodity Credit Corporation and Farm Service Agency, Department of Agriculture (USDA).

ACTION: Notification of fund availability.

SUMMARY: The Farm Service Agency (FSA) is announcing the availability of $19 million through the new Food Safety Certification for Specialty Crops Program (FSCSC) for specialty crop operations that incur eligible on-farm food safety program expenses to obtain or renew a food safety certification in calendar years 2024 and 2025. To be eligible for assistance with expenses related to a 2024 food safety certification, the certification must have been issued on or after June 26, 2024. Specialty crop operations incur significant costs to comply with regulatory requirements and market-driven food safety certification requirements each year with little opportunity to recover the increased costs. In this document, FSA is providing the eligibility requirements, application process, and payment calculation for FSCSC.

DATES: Funding availability: Implementation will begin June 26, 2024.

FOR FURTHER INFORMATION CONTACT: Kathy Sayers; telephone: (202) 720-6870; email: Kathy.sayers@usda.gov. Individuals with disabilities who require alternative means for communication should contact the USDA Target Center at (202) 720-2600 (voice and text telephone TTY) or dial 711 for Telecommunications Relay Service (both voice and text telephone users can initiate this call from any telephone).

SUPPLEMENTARY INFORMATION:

Background

FSA, on behalf of Commodity Credit Corporation (CCC), is announcing the availability of FSCSC to assist specialty crop operations that incurred eligible on-farm food safety certification and related expenses in order to obtain or renew a:

• 2024 food safety certification issued between June 26, 2024 and December 31, 2024; or

• 2025 food safety certification issued at any time during the 2025 calendar year.

For each year, FSCSC will cover a portion of the specialty crop operation's cost of obtaining or renewing their certification, as well as a portion of their related costs as described in this NOFA.

FSA will administer FSCSC for 2024 and 2025 in a similar manner as the previous FSCSC NOFA for 2022 and 2023 published on June 21, 2022 (87 FR 36816-36820); however, FSA has made changes to FSCSC as noted in this NOFA, including revising the definition of “small business” for 2024 and 2025 to mean an applicant that had an average annual monetary value of specialty crops sold during the applicable 3-year period not to exceed $500,000. FSA is adding eligibility for medium size business, by adding the definition of “medium size business” which means the average annual monetary value of specialty crops sold during the applicable 3-year period from $500,001 to $1,000,000. Medium size businesses are included as eligible in order to allow broader participation of diverse specialty crop operations that can qualify for FSCSC. FSA has also increased the maximum payment amounts for maintaining or updating a Food Safety Plan and Training due to additional certification compliance requirements included in the Standards for the Growing, Harvesting, Packing, and holding of Produce for Human Consumption Relating to Agricultural Water final rule, which was published on May 6, 2024 (89 FR 37448-37519). Based on feedback following the publication of the 2022 FSCSC NOFA, all payment categories will be paid at a higher rate due to the program being beneficial to the applicant.

Specialty crops intended for human consumption are subject to concerns about safety, particularly since specialty crops sold as raw agricultural commodities do not undergo a “kill step” like cooking, canning, or pasteurizing used for other agricultural commodities such as meat or dairy products. As a result, specialty crop operations face increasing demand from grocery stores, schools, and other institutional buyers and retailers to obtain certification through programs that address the safe growing, harvesting, packing, and holding of their crops. The need to develop, implement, and maintain on-farm food safety programs has resulted in additional costs for many specialty crop operations that seek alternate markets for their products due to changes in demand from traditional markets such as restaurants and food service. As they identify new markets, many specialty crop operations also find they need to undergo food safety audits and absorb the additional costs to achieve food safety certification through a private or government-based certification program in order to meet buyers' requirements to sell their products.

FSCSC funding of $19 million is provided through the CCC Charter Act, which authorizes CCC to increase the domestic consumption of agricultural commodities (other than tobacco) by expanding or aiding in the expansion of domestic markets or by developing or aiding in the development of new and additional markets, marketing facilities, and uses for such commodities (15 U.S.C. 714c(e)). FSCSC will aid in the expansion of domestic markets and development of new and additional markets by assisting specialty crop operations with costs that they incur to obtain or renew food safety certifications in order to comply with government and retail buyers' demands for food safety certification, ultimately expanding the markets available to those operations and increasing domestic consumption of specialty crops. To that end, only producers that successfully obtain or renew a food safety certification after publication of this notice are eligible to be compensated for a portion of the cost of that certification, as explained further below.

Definitions

The following definitions apply to this notice:

Certification upload fee means the fee paid by a specialty crop operation to upload reports and other documentation to a commercial database.

Certifier means either a private entity accredited for the purpose of providing food safety certification or a government-based certifier.

Deputy Administrator means the FSA Deputy Administrator for Farm Programs.

Food safety certification means certification that a specialty crop operation meets regulatory or market-driven food safety standards.

Food safety management system means a documented system developed by a group of specialty crop operations to obtain food safety certification, also referred to as a “quality management system.”

FSMA means the FDA Food Safety Modernization Act (Pub. L. 111-353).

Food safety plan means a documented plan implemented by a specialty crop operation to obtain food safety certification.

Medium size business means an applicant that had an average annual monetary value of specialty crops the applicant sold during the 3-year period preceding the program year of at least $500,001 but not more than $1,000,000.

Produce Safety Rule means the final rule titled “Standards for the Growing, Harvesting, Packing, and Holding of Produce for Human Consumption” published on November 27, 2015 (80 FR 74354-74568).

Program year means the calendar year in which the applicant's food safety certification is issued (that is, 2024 or 2025).

Raw agricultural commodity means any food in its raw or natural state, including all fruits that are washed, colored, or otherwise treated in their unpeeled natural form prior to marketing.

Small business means an applicant that had an average annual monetary value of specialty crops the applicant sold during the 3-year period preceding the program year of not more than $500,000.

Specialty crop means any fruit or vegetable (including mixes of intact fruits and vegetables) and includes mushrooms, sprouts (irrespective of seed source), tree nuts, and herbs. A fruit is the edible reproductive body of a seed plant or tree nut (such as apple, orange, and almond) such that fruit means the harvestable or harvested part of a plant developed from a flower. A vegetable is the edible part of an herbaceous plant (such as cabbage or potato) or fleshy fruiting body of a fungus (such as white button or shiitake) grown for an edible part such that vegetable means the harvestable or harvested part of any plant or fungus whose fruit, fleshy fruiting bodies, seeds, roots, tubers, bulbs, stems, leaves, or flower parts are used as food and includes mushrooms, sprouts, and herbs (such as basil or cilantro). “Specialty crop” does not include peanuts or food grains, meaning the small, hard fruits or seeds of arable crops, or the crops bearing these fruits or seeds, which are primarily grown and processed for use as meal, flour, baked goods, cereals, and oils rather than for direct consumption as small, hard fruits or seeds (including cereal grains, pseudo cereals, oilseeds, and other plants used in the same fashion). Examples of food grains include barley, dent- or flint-corn, sorghum, oats, rice, rye, wheat, amaranth, quinoa, buckwheat, and oilseeds (for example, cotton seed, flax seed, rapeseed, soybean, and sunflower seed).

Specialty crop operation means a farming operation that produces specialty crops that are raw agricultural commodities. It includes both individuals and legal entities.

Eligible Applicants

To be eligible for FSCSC, the applicant must meet all of the following:

• Be a specialty crop operation;

• Be a small business or medium size business;

• Have obtained or renewed a:

○ 2024 food safety certification that was issued between June 26, 2024 and December 31, 2024; or

○ 2025 food safety certification issued during the 2025 calendar year; and

• Have paid eligible expenses as described in the following.

FSCSC is available to specialty crop operations located in the 50 United States, the District of Columbia, the Commonwealth of Puerto Rico, Guam, American Samoa, the U.S. Virgin Islands, and the Commonwealth of the Northern Mariana Islands.

Eligible Expenses

FSCSC provides assistance for eligible expenses that the applicant both incurs and pays in order to obtain or renew a 2024 or 2025 food safety certification. Expenses that have been incurred by an applicant who does not ultimately obtain a 2024 or 2025 food safety certification are not eligible for assistance through FSCSC.

Some specialty crop operations obtain food safety certification through a group model, which enables multiple producers to form a group that develops a food safety management system and is audited and certified as one unit. This approach enables group members to pool resources to implement food safety training programs and share the cost of certification. Specialty crop operations that obtain certification through a group model are eligible to apply for assistance for their share of eligible expenses paid by the group, in addition to any eligible expenses they incur individually.

Specialty crop operations may receive assistance for the costs that are described in the following six items, including any associated postage costs.

Developing a food safety plan for first-time food safety certification. A food safety plan is a requirement for any specialty crop operation or group undergoing formal food safety certification, and the majority of costs associated with food safety plan development occur the first year an operation undergoes food safety certification. There are 2 general approaches to plan development—the specialty crop operation may develop its own plan, hire a consultant, or a combination of both. FSCSC will cover a percentage of the costs of seminars and tools used by specialty crop operations to create a food safety plan. FSCSC will also cover a percentage of the consulting fees and other associated expenses incurred if the specialty crop operation hires a consultant to develop a food safety plan. For specialty crop operations certified through a group, this category of expenses will cover a percentage of their share of the cost for developing a food safety or quality management system for the group.

Maintaining or updating an existing food safety plan. Certification programs typically require an annual review of the food safety plan to ensure it is current and addresses any new audit or regulatory requirements, as well as incorporates any new hazards. FSCSC will cover a percentage of the costs of maintaining and updating existing food safety plans. For specialty crop operations certified through a group, this category of expenses will cover a percentage of their share of the cost for maintaining or updating an existing food safety management system for the group.

Food safety certification. FSCSC will cover a percentage of the cost of obtaining food safety certification issued by a certifier, including application fees, inspection costs, inspection fees (including travel costs and per diem for certifiers), and user fees or certifier sales assessments.

Certification upload fees. FSCSC will cover a percentage of the cost to upload audit reports and certification documentation into commercial audit databases, which may be required by buyers of specialty crops.

Microbiological testing. FSCSC will cover a percentage of the cost of microbiological testing for products, soil amendments, and water as specified by a food safety plan or food safety management system. The FSMA Produce Safety Rule requires covered farms to test their agricultural water, and commercial food safety standards may require additional testing to determine if water meets the microbial requirements of the Environmental Protection Agency's drinking water standard (40 CFR part 141). Retail, food service, and institutional buyers are also increasingly requiring microbiological testing of finished products. Testing of soil amendments, particularly amendments of animal origin (composting), is also required by many food safety audit programs.

Training. FSCSC will cover the cost of food safety training for the specialty crop operation. The FSMA requires all covered operations to take a training course annually. Additionally, most certification programs require training as well.

Ineligible Expenses

Any expenses not listed above are not covered by FSCSC. The following expenses are examples of costs that are not eligible for cost share under FSCSC:

• Infrastructure improvements (such as improvements to buildings, cold storage, flooring, restrooms, and handwashing stations);

• Equipment (such as grading or packing lines and sanitation equipment);

• Supplies (such as sanitation and cleaning supplies and personal protective equipment);

• Salaries and benefits of employees or other costs for labor, except for expenses for consultants described above; and

• Fees or penalties for late payment.

Application Process

The application periods will be:

• for 2024, the application period will begin at a date to be announced by the Deputy Administrator for Farm Programs and go through January 31, 2025; and

• for 2025, January 1, 2025, through January 31, 2026.

Applicants may apply for FSCSC at any USDA Service Center.¹ Each applicant must submit Form FSA-888-1, Food Safety Certification for Specialty Crops Program (FSCSC) For Program Years 2024 and 2025, by the application deadline. Applications may be submitted in person or by mail, email, facsimile, or other methods announced by FSA. Applicants must also submit the following forms if not already on file with FSA:

¹ USDA Service Center locations and contact information are available at https://offices.sc.egov.usda.gov/locator/app.

• Form AD-2047, Customer Data Worksheet; and

• Form SF-3881, ACH Vendor/Miscellaneous Payment Enrollment Form.²

² Applicants who are unable to receive payment through direct deposit are still eligible to participate in FSCSC. Those applicants should contact their local FSA county office for further information.

Eligible expenses are based on the applicant's certification and are subject to spot check. Applicants may be required to provide additional documentation to FSA, if requested by FSA, to verify eligibility or issue payment. Specialty crop operations certified as part of a group under a food safety management system must provide documentation of the applicant's portion of the group's expenses from the entity responsible for maintaining the group's certification if requested by FSA. Additional documentation must be received within 30 days of the request or the application will not be processed.

Payments

FSCSC payments are calculated separately for each category of eligible costs based on the percentages and maximum payment amounts in the following table. An applicant may receive the specified percentage of their eligible costs, up to the maximum per category, for each program year.

Category of eligible expenses | Payment amount of eligible costs
Food safety certification | 75 percent, up to a maximum of $2,000.
Development of a food safety plan for first-time certification | 75 percent (no maximum).
Maintaining or updating a food safety plan | 75 percent, up to a maximum of $675.
Certification upload fees | 75 percent, up to a maximum of $375.
Microbiological testing—products | 75 percent, up to 5 tests.
Microbiological testing—soil amendments | 75 percent, up to 5 tests.
Microbiological testing—water | 75 percent, up to 5 tests.
Training | 100 percent, up to a maximum of $500.

Payments will be equal to the applicant's eligible expenses multiplied by the percentage for the applicable category in the table above, not to exceed the maximum payment amount for the category, if applicable. An applicant must report any previous cost share assistance received from any source for the expenses included on their application. The amount of the applicant's FSCSC payment plus the reported additional cost share assistance cannot exceed the total amount of eligible expenses for each category. If the amount of the additional cost share plus the calculated FSCSC payment exceed the total amount of eligible expenses for a category, the FSCSC payment for that category will be equal to the total amount of eligible expenses minus the additional reported cost share assistance.

FSA will issue payments for the 2024 program year as applications are processed and approved. Due to the limited amount of funding, FSA will issue 50 percent of the calculated amount for 2025 program year payments as applications are processed and approved, and an additional payment after the end of the 2025 application period. If total calculated payments exceed the amount of available funding for 2025, the additional payments will be prorated.

Other Provisions

Participants are required to retain documentation in support of their application for 3 years after the date of approval. Participants receiving FSCSC payments or any other person who furnishes such information to USDA must permit authorized representatives of USDA or the Government Accountability Office, during regular business hours, to enter the operation and to inspect, examine, and to allow representatives to make copies of books, records, or other items for the purpose of confirming the accuracy of the information provided by the participant.

Applicants have a right to a decision in response to their application. If an applicant files an application with an FSA county office after the application deadline, the application will be considered a request to waive the deadline.

Requests to waive or modify program provisions, including requests to waive the deadline, are at the discretion of the Deputy Administrator. The Deputy Administrator has the authority to waive or modify application deadlines and other requirements or program provisions not specified in law, in cases where the Deputy Administrator determines it is:

(1) equitable to do so; and

(2) where the lateness or failure to meet such other requirements or program provisions do not adversely affect the operation of FSCSC.

Applicants who request to waive or modify FSCSC provisions do not have a right to a decision on those requests, and the Deputy Administrator's refusal to exercise discretion on requests to waive or modify FSCSC provisions will not be considered an adverse decision and is, by itself, not appealable.

Equitable relief and finality provisions specified in 7 CFR part 718, subpart D, apply to determinations under FSCSC. Persons and legal entities who file an application with FSA have the right to an administrative review of any FSA adverse decision with respect to the application under the appeals procedures at 7 CFR parts 780 and 11. The determination of matters of general applicability that are not in response to, or do not result from, an individual set of facts in an individual participant's application for payment are not matters that can be appealed. Such matters of general applicability include, but are not limited to, the determination of eligible categories of expenses and payment rates.

Any payment under FSCSC will be made without regard to questions of title under State law and without regard to any claim or lien. The regulations governing offsets in 7 CFR part 3 apply to FSCSC payments.

If an FSCSC payment resulted from erroneous information provided by a participant, or any person acting on their behalf, the payment will be recalculated and the participant must refund any excess payment with interest calculated from the date of the disbursement of the payment. If FSA determines that the applicant intentionally misrepresented information provided on their application, the application will be disapproved and the applicant must refund the full payment to FSA with interest from the date of disbursement.

In either applying for or participating in FSCSC, or both, the applicant is subject to laws against perjury (including but not limited to 18 U.S.C. 1621). If the applicant willfully makes and represents as true any verbal or written declaration, certification, statement, or verification that the applicant knows or believes not to be true, in the course of either applying for or participating in FSCSC, or both, then the applicant may be found to be guilty of perjury. Except as otherwise provided by law, if guilty of perjury the applicant may be fined, imprisoned for not more than 5 years, or both, regardless of whether the applicant makes such verbal or written declaration, certification, statement, or verification within or outside the United States.

For the purposes of the effect of a lien on eligibility for Federal programs (28 U.S.C. 3201(e)), USDA waives the restriction on receipt of funds under FSCSC but only as to beneficiaries who, as a condition of the waiver, agree to apply the FSCSC payments to reduce the amount of the judgment lien.

In addition to any other Federal laws that apply to FSCSC, the following laws apply: 18 U.S.C. 286, 287, 371, and 1001.

Paperwork Reduction Act Requirements

In compliance with the Paperwork Reduction Act (44 U.S.C. 3501-3520), there are no changes to the approved information collection under OMB control number of 0560-0311.

Environmental Review

The environmental impacts of this notice have been considered in a manner consistent with the provisions of the National Environmental Policy Act (NEPA, 42 U.S.C. 4321-4347), the regulations of the Council on Environmental Quality (40 CFR parts 1500-1508), and the FSA regulations for compliance with NEPA (7 CFR part 799).

The purpose of FSCSC is to provide assistance to specialty crop operations for eligible costs related to food safety certification. The Categorical Exclusions in 7 CFR 799.31 apply, specifically 7 CFR 799.31(b)(6)(iii) (that is, financial assistance to supplement income). No Extraordinary Circumstances (7 CFR 799.33) exist. FSA has determined that this notice does not constitute a major Federal action that would significantly affect the quality of the human environment, individually or cumulatively. Therefore, FSA will not prepare an environmental assessment or environmental impact statement for this regulatory action.

Federal Assistance Programs

The title and number of the Federal assistance program, as found in the Assistance Listings, to which this document applies are 10.142, Food Safety Certification for Specialty Crops (FSCSC) Program.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Administrator, Farm Service Agency, and Executive Vice President, Commodity Credit Corporation.

[FR Doc. 2024-14022 Filed 6-25-24; 8:45 am]

BILLING CODE 3410-E2-P